DEPARTMENT OF DEFENSE

Department of the Air Force

[Docket ID USAF-2009-0014]

Privacy Act of 1974; System of Records

AGENCY: Department of Air Force.

ACTION: Notice to amend a system of records.

SUMMARY: The Department of Air Force proposes to amend a system of records to its inventory of record systems subject to the Privacy Act of 1974 (5 U.S.C. 552a), as amended.

DATES: The changes will be effective on March 12, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: February 4, 2009.
Morgan E. Frazier,
Alternate OSD Federal Register Liaison Officer, Department of Defense.

F036 AF PC A

System Name:

Effectiveness/Performance Reporting Systems (June 11, 1997, 62 FR 31793).

Changes:

* * * * *

System Name:

Delete entry and replace with “Effectiveness/Performance Reporting Records.”

System Location:

Delete entry and replace with “Headquarters, Air Force Personnel Center, 550 C Street West, Randolph Air Force Base, TX 78150-4709.

Headquarters, Air Reserve Personnel Center, 6760 E. Irvington Place (6600), Denver, CO 80280-6600.

Headquarters of major commands and field operating agencies; military personnel flights; each State Adjutant General Office and Air Force Reserve and Air National Guard units. Official mailing addresses are published as an appendix to the Air Force's compilation of record systems notices.”

Categories of individuals covered by system:

Delete entry and replace with “Military Personnel Only.

Officers: Applies to Regular Active Duty Air Force/Air National Guard/Air Force Reserve personnel serving in grades Warrant Officer (W-1) through Colonel (0-6).

Enlisted: Applies to active duty personnel in the grades Airman Basic (E-1) through Chief Master Sergeant (E-9), and to Air National Guard and Air Force Reserve personnel in the grades Staff Sergeant (E-5) through Chief Master Sergeant (E-9).”

Categories of records in the system:

Delete entry and replace with “Officer Performance Report; Education/Training Report; Enlisted Performance Report; Promotion Recommendation Forms; Letter of Evaluations; Performance Feedback Worksheets and Retention Recommendation Forms. Description of data contained therein: Name, Social Security Number, address; active and permanent grades; specialty data; organization location and Personnel Accounting Symbol; period of report; number of days of supervision; performance evaluation scales; assessment of potential and comments regarding ratings.”

Authority for maintenance of the system:

Delete entry and replace with “10 U.S.C. 8013, Secretary of the Air Force: Powers and duties; delegation by; as implemented by Air Force Instruction 36-2406, Officer and Enlisted Evaluation Systems, and E.O. 9397 (SSN).”

* * * * *

Storage:

Delete entry and replace with “Paper records and electronic storage media.”

* * * * *

Retention and Disposal:

Delete entry and replace with “Copies of effectiveness/performance reports are retained until separation or retirement. At separation or retirement, data subject is presented with field and command record copies of his or her reports. The Headquarters, Air Force (HAF) copy is a permanent record that is forwarded to the National Military Personnel Records Center, (NPRC/NRPMF), 9700 Page Boulevard, St. Louis, MO 63132-2001 (if separated/retired on or prior to 30 September 2004) or HQ Air Force Personnel Center, Master Personnel Records Branch, (HQ AFPC/DPSSR), 550 C Street West, Randolph AFB, TX 78150-6001 (if separated/retired on or after 1 October 2004). In the event the member has a Reserve commitment, the HAF copy is sent to Headquarters Air Reserve Personnel Center, 6760 E. Irvington Place (6600), Denver, CO 80280-6600.

The following exceptions apply:

Officers Field Record: Remove and give to individual when promoted to Colonel, when separated or retired, or destroy when voided by action of the Officer Personnel Records Review Board. When voided by action of the Air Force Board for Correction of Military Records, forward all copies of report to Headquarters United States Air Force (HQ USAF) when directed.

Command Record: The command custodian will destroy the reports when voided by action of Officer Personnel Records Review Board. When voided by action of the Air Force Board for Correction of Military Records, forward all copies of report to HQ USAF when directed.

HAF Record: Remove reports voided by action of the Officer Personnel Records Review Board from the selection folder and file in the board recorder's office until destruction. Remove reports voided by action of the Air Force Board for Correction of Military Records from selection folder and submit to Board's Secretariat with duplicate and triplicate copies for custody and disposition.

Promotions Recommendation Forms: Temporary documents maintained only at HQ Air Force level and are destroyed after their purpose has been served. A copy is forwarded to HQ Air Force Personnel Center, Master Personnel Records Branch (HQ AFPC/DPSSR) to file into the Automated Records Management System for historic and appeal purposes only.

Active Duty Enlisted:

Grades E-3 through E-6: On separation or retirement, Enlisted Performance Reports (EPRs) are forwarded to the National Personnel Records Center (NPRC/NRPMF), St. Louis, MO 63132 (if separated/retired on or prior to 30 September 2004) or HQ Air Force Personnel Center, Master Personnel Records Branch (HQ AFPC/DPSSR), (if separated/retired on or after 1 October 2004) unless data subject holds a reserve obligation, in which case they are forwarded to Air Reserve Personnel Center.

Grades E-7 through E-9: On separation or retirement, original copies, those retained in Senior Non-Commissioned Officer (NCO) selection folders and those in field record closing before 1 January 1967, are forwarded to the National Personnel Records Center (NPRC/NRPMF), (if separated/retired on or prior to 30 September 2004) or HQ Air Force Personnel Center, Master Personnel Records Branch (HQ AFPC/DPSSR), (if separated/retired on or after 1 October 2004), or to Air Reserve Personnel Center if data subject holds a reserve obligation. Duplicate copies closing 1 January 1967 or later (field record) are returned to the member at separation or retirement.

Non-Active Duty Reserve Enlisted: Air Force Reserve Forces Non-Commissioned Officers Performance Report; upon separation, retirement or assignment to a non-participating reserve status, are forwarded to Air Reserve Personnel Center for file in the master personnel record and disposed of as a part of that record. Records are destroyed by tearing into pieces, shredding, pulping, macerating or burning.”

* * * * *

System manager and address:

Delete entry and replace with “Deputy Chief of Staff for Personnel, Headquarters United States Air Force, 1040 Air Force Pentagon, Washington, DC 20330-1040.

Chief, Headquarters Air Force Personnel Center, (HQ AFPC/DPSID), Career Development Branch, 550 C Street West, Randolph Air Force Base TX, 78150-4709.

Chief of Air Force Reserve, (USAFR/RE), Headquarters United States Air Force, 1150 Air Force Pentagon, Washington, DC 20330-1150.

Director, Air National Guard, (NGB/CF), 2500 Army Pentagon, Washington, DC 20310-2500.”

Notification Procedure:

Delete entry and replace with “Individuals seeking to determine whether information about themselves is contained in this system should address written inquiries to Deputy Chief of Staff/Personnel, Headquarters United States Air Force, (USAF/A1), 1040 Air Force Pentagon, Washington, DC 20330-1040; Headquarters Air Force Personnel Center, (HQ AFPC/DPSID), 550 C Street W, Randolph Air Force Base, TX 78150-4709; Chief of Air Force Reserve, Headquarters United States Air Force, Washington, DC 20330-1000; The Director, Air National Guard, Washington, DC 20310-2500; National Military Personnel Records Center, (NPRC/NRPMF), 9700 Page Boulevard, St. Louis, MO 63132-5100, or directly to agency officials at the respective system location. Official mailing addresses are published as an appendix to the Air Force's compilation of record systems notices.

Written request should contain full name, Social Security Number (SSN) and complete mailing address with notarized signature as below.

An unsworn declaration under penalty of perjury in accordance with section 1746 of 28 U.S.C. (Reference (n)) or notarized signatures are acceptable as a means of proving the identity of the individual.

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

Record access procedures:

Delete entry and replace with “Individuals seeking to access records about themselves contained in this system should address written inquiries to Deputy Chief of Staff/Personnel, Headquarters United States Air Force, (USAF/A1), 1040 Air Force Pentagon, Washington, DC 20330-1040; Headquarters Air Force Personnel Center, (HQ AFPC/DPSID), 550 C Street W, Randolph Air Force Base, TX 78150-4709; Chief of Air Force Reserve, Headquarters United States Air Force, Washington, DC 20330-1000; The Director, Air National Guard, Washington, DC 20310-2500; National Military Personnel Records Center, (NPRC/NRPMF), 9700 Page Boulevard, St. Louis, MO 63132-2001, or directly to agency officials at the respective system location. Official mailing addresses are published as an appendix to the Air Force's compilation of record systems notices.

Written request should contain full name, Social Security Number (SSN) and complete mailing address with notarized signature as below.

An unsworn declaration under penalty of perjury in accordance with section 1746 of 28 U.S.C. (Reference (n)) or notarized signatures are acceptable as a means of proving the identity of the individual.

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

Contesting record procedures:

Delete entry and replace with “The Air Force rules for accessing records and for contesting contents and appealing initial agency determinations are published in Air Force Instruction 33-332, Privacy Act Program, 32 CFR part 806b; or may be obtained from the system manager.”

Record Source Categories:

Delete entry and replace with: “Performance evaluations that are maintained on Air Force Active Duty, Reserve, and Air National Guard personnel in the grades of airman basic E-1 through general O-10.”

* * * * *

F036 AF PC A

System name:

Effectiveness/Performance Reporting Records.

System location:

Headquarters, Air Force Personnel Center, 550 C Street West, Randolph Air Force Base, TX 78150-4709.

Headquarters, Air Reserve Personnel Center, 6760 E. Irvington Place (6600), Denver, CO 80280-6600.

Headquarters of major commands and field operating agencies; military personnel flights; each State Adjutant General Office and Air Force Reserve and Air National Guard units. Official mailing addresses are published as an appendix to the Air Force's compilation of record systems notices.

Categories of individuals covered by the system:

Military Personnel Only.

Officers: Applies to Regular Active Duty Air Force/Air National Guard/Air Force Reserve personnel serving in grades Warrant Officer (W-1) through Colonel (0-6).

Enlisted: Applies to active duty personnel in the grades Airman Basic (E-1) through Chief Master Sergeant (E-9) and to Air National Guard and Air Force Reserve personnel in the grades Staff Sergeant (E-5) through Chief Master Sergeant (E-9).

Categories of records in the system:

Officer Performance Report; Education/Training Report; Enlisted Performance Report; Promotion Recommendation Forms; Letter of Evaluations; Performance Feedback Worksheets and Retention Recommendation Forms. Description of data contained therein: Name, Social Security Number (SSN), address; active and permanent grades; specialty data; organization location and Personnel Accounting Symbol; period of report; number of days of supervision; performance evaluation scales; assessment of potential and comments regarding ratings.

Authority for maintenance of the system:

10 U.S.C. 8013, Secretary of the Air Force: Powers and duties; delegation by; as implemented by Air Force Instruction 36-2406, Officer and Enlisted Evaluation Systems and E.O. 9397 (SSN).

Purpose(s):

Used to document effectiveness/duty performance history; promotion selection; school selection; assignment selection; reduction-in-force; control roster; reenlistment; separation; research and statistical analyses and other appropriate personnel actions.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Non-exempt records from this system may be disclosed to other federal agencies in anticipation of an individual's assignment or upon actual assignment to that agency, to the extent that the information is relevant and necessary to the agency's decision on the matter.

The ‘Blanket Routine Uses’ published at the beginning of the Air Force's compilation of systems of records notices apply to this system.

Policies and practices for storing, retrieving, accessing, retaining, and disposing of records in the system:

Storage:

Paper records and electronic storage media.

Retrievability:

Retrieved by name or Social Security Number (SSN).

Safeguards:

Records are accessed by custodian of the record system and by person(s) who are properly screened and cleared for need-to-know. Records are stored in locked cabinets or rooms.

Retention and disposal:

Copies of effectiveness/performance reports are retained until separation or retirement. At separation or retirement, data subject is presented with field and command record copies of his or her reports. The Headquarters, Air Force (HAF) copy is a permanent record that is forwarded to the National Military Personnel Records Center, (NPRC/NRPMF), 9700 Page Boulevard, St. Louis, MO 63132-2001 (if separated/retired on or prior to 30 September 2004) or HQ Air Force Personnel Center, Master Personnel Records Branch, (HQ AFPC/DPSSR), 550 C Street West, Randolph AFB, TX 78150-6001 (if separated/retired on or after 1 October 2004). In the event the member has a Reserve commitment, the HAF copy is sent to Headquarters Air Reserve Personnel Center, 6760 E. Irvington Place (6600), Denver, CO 80280-6600.

The following exceptions apply:

Officers Field Record: Remove and give to individual when promoted to Colonel, when separated or retired, or destroy when voided by action of the Officer Personnel Records Review Board. When voided by action of the Air Force Board for Correction of Military Records, forward all copies of report to Headquarters United States Air Force (HQ USAF) when directed.

Command Record: The command custodian will destroy the reports when voided by action of Officer Personnel Records Review Board. When voided by action of the Air Force Board for Correction of Military Records, forward all copies of report to HQ USAF when directed.

HAF Record: Remove reports voided by action of the Officer Personnel Records Review Board from the selection folder and file in the board recorder's office until destruction. Remove reports voided by action of the Air Force Board for Correction of Military Records from selection folder and submit to Board's Secretariat with duplicate and triplicate copies for custody and disposition.

Promotions Recommendation Forms: Temporary documents maintained only at HQ Air Force level and are destroyed after their purpose has been served. A copy is forwarded to HQ Air Force Personnel Center, Master Personnel Records Branch (HQ AFPC/DPSSR) to file into the Automated Records Management System for historic and appeal purposes only.

Active Duty Enlisted:

Grades E-3 through E-6: On separation or retirement, Enlisted Performance Reports (EPRs) are forwarded to the National Personnel Records Center (NPRC/NRPMF), St. Louis, MO 63132 (if separated/retired on or prior to 30 September 2004) or HQ Air Force Personnel Center, Master Personnel Records Branch (HQ AFPC/DPSSR), (if separated/retired on or after 1 October 2004) unless data subject holds a reserve obligation, in which case they are forwarded to Air Reserve Personnel Center.

Grades E-7 through E-9: On separation or retirement, original copies, those retained in Senior Non-Commissioned Officer (NCO) selection folders and those in field record closing before 1 January 1967, are forwarded to the National Personnel Records Center (NPRC/NRPMF), (if separated/retired on or prior to 30 September 2004) or HQ Air Force Personnel Center, Master Personnel Records Branch (HQ AFPC/DPSSR), (if separated/retired on or after 1 October 2004), or to Air Reserve Personnel Center if data subject holds a reserve obligation. Duplicate copies closing 1 January 1967 or later (field record) are returned to the member at separation or retirement.

Non-Active Duty Reserve Enlisted: Air Force Reserve Forces Non-Commissioned Officers Performance Report; upon separation, retirement or assignment to a non-participating reserve status, are forwarded to Air Reserve Personnel Center for file in the master personnel record and disposed of as a part of that record. Records are destroyed by tearing into pieces, shredding, pulping, macerating or burning.

System manager(s) and address:

Deputy Chief of Staff for Personnel, Headquarters United States Air Force, 1040 Air Force Pentagon, Washington, DC 20330-1040.

Notification procedure:

Individuals seeking to determine whether information about themselves is contained in this system should address written inquiries to Deputy Chief of Staff/Personnel, Headquarters United States Air Force, (USAF/A1), 1040 Air Force Pentagon, Washington, DC 20330-1040; Headquarters Air Force Personnel Center, (HQ AFPC/DPSID), 550 C Street W, Randolph Air Force Base, TX 78150-4709; Chief of Air Force Reserve, Headquarters United States Air Force, Washington, DC 20330-1000; The Director, Air National Guard, Washington, DC 20310-2500; National Military Personnel Records Center, (NPRC/NRPMF), 9700 Page Boulevard, St. Louis, MO 63132-5100, or directly to agency officials at the respective system location. Official mailing addresses are published as an appendix to the Air Force's compilation of record systems notices.

Written request should contain full name, Social Security Number (SSN) and complete mailing address with notarized signature as below.

An unsworn declaration under penalty of perjury in accordance with section 1746 of 28 U.S.C. (Reference (n)) or notarized signatures are acceptable as a means of proving the identity of the individual.

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

Record access procedures:

Individuals seeking to access records about themselves contained in this system should address written inquiries to Deputy Chief of Staff/Personnel, Headquarters United States Air Force, (USAF/A1), 1040 Air Force Pentagon, Washington, DC 20330-1040; Headquarters Air Force Personnel Center, (HQ AFPC/DPSID), 550 C Street W, Randolph Air Force Base, TX 78150-4709; Chief of Air Force Reserve, Headquarters United States Air Force, Washington, DC 20330-1000; The Director, Air National Guard, Washington, DC 20310-2500; National Military Personnel Records Center, (NPRC/NRPMF), 9700 Page Boulevard, St. Louis, MO 63132-2001, or directly to agency officials at the respective system location. Official mailing addresses are published as an appendix to the Air Force's compilation of record systems notices.

Written request should contain full name, Social Security Number (SSN) and complete mailing address with notarized signature as below.

An unsworn declaration under penalty of perjury in accordance with section 1746 of 28 U.S.C. (Reference (n)) or notarized signatures are acceptable as a means of proving the identity of the individual.

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

Contesting record procedures:

The Air Force rules for accessing records and for contesting contents and appealing initial agency determinations are published in Air Force Instruction 33-332, Privacy Act Program, 32 CFR part 806b; or may be obtained from the system manager.

Record source categories:

Performance evaluations that are maintained on Air Force Active Duty, Reserve, and Air National Guard personnel in the grades of airman basic E-1 through general O-10.

Exemptions claimed for the system:

Brigadier General Selectee Effectiveness Reports and Colonel and Lieutenant Colonel Promotion recommendations with close out dates on or before January 31, 1991, may be exempt under the provisions of 5 U.S.C. 552a(k)(7) from subsections of 5 U.S.C. 552a(c)(3); (d); (e)(4)(H); and (f), as applicable, but only to the extent that disclosure would reveal the identity of a confidential source. For additional information contact the system manager.

An exemption rule has been promulgated in accordance with the requirements of 5 U.S.C. 553(b)(1), (2), and (3), (c) and (e) and published in the 32 CFR part 806b.

1

[FR Doc. E9-2782 Filed 2-9-09; 8:45 am]

BILLING CODE 5001-06-P